ENVIRONMENTAL PROTECTION AGENCY

[EPA-HQ-OAR-2016-0265; FRL-9947-64-OAR]

EPA's Review of the Waste Isolation Pilot Plant's Biennial Environmental Compliance Report for the Period 2012 to 2014

AGENCY: Environmental Protection Agency (EPA).

ACTION: Notice.

SUMMARY: The U.S. Environmental Protection Agency (EPA) has completed its review of the Department of Energy's (DOE) most recent Biennial Environmental Compliance Report (BECR) for the Waste Isolation Pilot Project (WIPP), covering the period April 1, 2012 through March 31, 2014. Section 9(a)(2) of the WIPP Land Withdrawal Act requires the DOE to submit documentation to the EPA of the WIPP's continued compliance with designated federal laws pertaining to public health and safety or the environment. The Secretary of Energy was notified that the EPA had completed its review via a letter from EPA Administrator Gina McCarthy dated June 3, 2016.

FOR FURTHER INFORMATION CONTACT: Nick Stone, WIPP Project Officer, Mail Code 6PD-O, U.S. Environmental Protection Agency, Region 6, 1445 Ross Avenue, Dallas, TX 75202. Nick Stone may be reached by telephone at (214) 665-7226.

SUPPLEMENTARY INFORMATION:

I. General Information

A. How can I get copies of this document and other related information?

1. Docket. EPA has established a docket for this action under Docket ID No. EPA-HQ-OAR-2016-0265; FRL-9947-64-OAR. Docket materials are publicly available either electronically through http://www.regulations.gov or in hard copy at the Air and Radiation Docket in the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the Air and Radiation Docket is (202) 566-1742. As provided in EPA's regulations at 40 CFR part 2, and in accordance with normal EPA docket procedures, if copies of any docket materials are requested, a reasonable fee may be charged for photocopying.

2. Electronic Access. You may access this Federal Register document electronically through the EPA Internet under the “Federal Register” listings at http://www.regulations.gov.

II. Background

The EPA conducted this review under the authority of Section 9 of the WIPP Land Withdrawal Act (WIPP LWA, Pub. L. Nos. 102-579 and 104-201). Section 9(a)(1) of the WIPP LWA requires that, as of the date of the enactment of the WIPP LWA, the DOE shall comply with respect to the WIPP with (1) regulations for the management and storage of radioactive waste (40 CFR part 191, subpart A); (2) the Clean Air Act; (3) the Solid Waste Disposal Act; (4) the Safe Drinking Water Act; (5) the Toxic Substances Control Act; (6) the Comprehensive Environmental Response, Compensation, and Liability Act; and (7) all other applicable Federal laws pertaining to public health and safety or the environment. Section 9(a)(2) of the WIPP LWA requires the DOE biennially to submit to the EPA documentation of continued compliance with the laws, regulations, and permit requirements set forth in Section 9(a)(1).

As outlined in the EPA's letter to the Secretary of Energy, the Agency has been able to conclude its review of the WIPP BECR for the reporting period, April 1, 2012 through March 31, 2014 based on receipt of all cumulative documentation from DOE and the Settlement Agreement between the State of New Mexico and the Department. EPA will consider the DOE's compliance with the Settlement Agreement as part of its review of the Department's compliance for the next reporting period, from April 1, 2014 to March 31, 2016, and subsequent reporting periods as appropriate. The Agency will continue its oversight of the WIPP and continue to work cooperatively with the DOE, the State of New Mexico and the public to ensure that the WIPP is protective of human health and the environment. All relevant information related to this review—including this notice and the letter to the Secretary of Energy—are available online via the WIPP news Web site (https://www.epa.gov/radiation/wipp-news) and the aforementioned docket on regulations.gov (EPA-HQ-OAR-2016-0265).

This determination is not in any way related to, or a part of, the EPA's certification and recertification decisions regarding whether the WIPP complies with the Agency's disposal regulations for transuranic radioactive waste at 40 CFR part 191.

Dated: June 3, 2016.
Gina McCarthy,
Administrator.

[FR Doc. 2016-14095 Filed 6-13-16; 8:45 am]

BILLING CODE P